DEPARTMENT OF THE INTERIOR

Bureau of Reclamation

[FES-06-06]

Navajo Dam, Colorado River Storage Project, New Mexico and Colorado

AGENCY: Bureau of Reclamation, Interior.

ACTION: Notice of availability of Navajo Reservoir Operations Final Environmental Impact Statement.

SUMMARY: The Bureau of Reclamation (Reclamation), the Federal agency responsible for operation of the Navajo Unit (Navajo Dam and Reservoir) has prepared and made available to the public a final environmental impact statement (FEIS) pursuant to Section 102(2)(c) of the National Environmental Policy Act of 1969 (NEPA), as amended, 42 United States Code (U.S.C.) 4332.

ADDRESSES: Copies of the FEIS are available from Pat Page, Bureau of Reclamation, Western Colorado Area Office, 835 East Second Avenue, Suite 400, Durango, Colorado 81301-5475; telephone (970) 385-6500; faxogram (970) 385-6539; e-mail: ppage@uc.usbr.gov. The FEIS is also available on Reclamation's Web site at http://www.usbr.gov/uc/ (click on Environmental Documents).

Copies of the FEIS are also available at the following locations:

• Bureau of Reclamation, Main Interior, Room 7060-MIB, 1849 C Street, NW., Washington, DC 20240-0001.

• Bureau of Reclamation, Denver Office Library, Denver Federal Center, Sixth & Kipling, Building 67, Room 167, Denver, Colorado 80225-0007.

• Bureau of Reclamation, Upper Colorado Regional Office, 125 South State Street, Room 6107, Salt Lake City, Utah 84138-1147.

• Bureau of Reclamation, Western Colorado Area Office, 835 East Second Avenue, Suite 400, Durango, Colorado 81301-5475.

• Bureau of Reclamation, Western Colorado Area Office, 2764 Compass Drive, Suite 106, Grand Junction, Colorado 81506.

• Colorado Department of Natural Resources, Attention: Russell George, Executive Director, 1313 Sherman Street, Room 718, Denver, Colorado 80203.

• Colorado Department of Local Affairs, Attention: Eric Bergman, 1313 Sherman Street, Room 521, Denver, Colorado 80203.

• Energy, Minerals and Natural Resources Department, Attention: Joanna Prukop, Wendell Chino Building, 1220 St. Francis Drive, Santa Fe, New Mexico 87505.

• Environmental Department, Attention: Gedi Cibas, Environmental Impact Review Coordinator, Harold Runnels Building, 1190 St. Francis Drive, Room 4050, Santa Fe, New Mexico 87502.

Libraries

Cortez Public Library, Cortez, Colorado

Denver Public Library, Denver, Colorado

University of Colorado, Denver, Colorado

Durango Public Library, Durango, Colorado

Fort Lewis College Library, Durango, Colorado

Albuquerque Public Library, Albuquerque, New Mexico

Bloomfield Library, Bloomfield, New Mexico

Farmington Public Library, Farmington, New Mexico

San Juan College Library, Farmington, New Mexico

Diné College Library, Shiprock, New Mexico

FOR FURTHER INFORMATION CONTACT: Pat Page, Bureau of Reclamation, Western Colorado Area Office, 835 East Second Avenue, Suite 400, Durango, Colorado 81301-5475; telephone (970) 385-6500; faxogram (970) 385-6539; e-mail: ppage@uc.usbr.gov.

SUPPLEMENTARY INFORMATION: The FEIS describes the environmental impacts of alternatives to operate Navajo Dam and Reservoir to implement the flow recommendations provided by the San Juan River Basin Recovery Implementation Program (Recovery Program), or a reasonable alternative to those recommendations. The purpose of the proposed Federal action is to provide sufficient releases of water at times, quantities, and durations necessary to conserve, in concert with other fish recovery plans authorized under the Recovery Program, two endangered fish species and their designated critical habitat in the San Juan River downstream from Farmington, New Mexico. The two endangered fish species are the Colorado pikeminnow (Ptychocheilus lucius) and the razorback sucker (Xyrauchen texanus). Reclamation would maintain the authorized purposes of the Navajo Unit which include enabling future water development to proceed in the San Juan River Basin in compliance with applicable laws, compacts, court decrees, and Indian trust responsibilities.

Background

Navajo Dam, located on the San Juan River approximately 38 miles northeast of Farmington, New Mexico, and about 55 miles southeast of Durango, Colorado, is an authorized storage unit of the Colorado River Storage Project (CRSP). Navajo Dam was completed in 1963 as one of the four key features of the CRSP intended to develop the water resources of the Upper Colorado River Basin and is operated in accordance with the CRSP Act and applicable Reclamation and other Federal laws.

Reclamation proposes to take action to protect and assist in recovery of the populations and designated critical habitat of the two endangered fishes found in the San Juan River, while maintaining all authorized purposes of the Navajo Unit. Reclamation would implement the proposed action by modifying the operation of Navajo Dam, to the extent possible within CRSP authority, to achieve the flow recommendations developed by the Recovery Program. Reclamation's goal is to implement the proposed action and, at the same time, continue to meet all authorized purposes of the CRSP.

Purpose and Need for Action

Under the proposed action, Navajo Dam will be operated to avoid jeopardy and assist in recovery of the two endangered fishes, while maintaining the authorized purposes of the Navajo Unit of the CRSP. This will allow future water development to proceed in the San Juan River Basin in compliance with applicable laws, compacts, court decrees, and Indian trust responsibilities. The proposed action is needed for the following reasons:

• The operation of Navajo Dam, under its original operating criteria, adversely affected the endangered fishes in the San Juan River.

• Reclamation is required to comply with the Endangered Species Act (ESA) for the operation of facilities, including Navajo Dam. Within the exercise of its discretionary authority, Reclamation must avoid jeopardizing the continued existence of listed species or adversely modifying designated critical habitat.

• Formal consultation under the ESA on the Navajo Unit was requested by Reclamation in 1991. At that time, Reclamation committed to operate Navajo Dam in concert with ongoing research to determine hydrologic conditions beneficial to endangered fish and in a manner most consistent with endangered fish recovery. In a 1991 response to Reclamation, the U.S. Fish and Wildlife Service concurred that the consultation process should be initiated and that the consultation period for the operation of the Navajo Unit be extended while research on the San Juan River was conducted. Under the direction of the Recovery Program, Navajo Dam releases were evaluated from 1992 to 1998. At the completion of the research period, the Recovery Program completed the Flow Recommendations for the San Juan River (Holden, 1999). The recommendations included suggested Navajo Dam operating rules for various hydrologic conditions and levels of water development in the San Juan River Basin. Applying these rules would allow the flow recommendations to be met and would allow water development consistent with the ESA and other applicable laws.

Proposed Federal Action

Reclamation proposes to take action to protect and assist in recovery of the populations and designated critical habitat of the two endangered fishes found in the San Juan River Basin. Reclamation would implement the proposed action by modifying the operations of Navajo Dam, to the extent possible, to achieve the flow recommendations developed by the Recovery Program. Reclamation's goal is to implement the proposed action and, at the same time, maintain and continue all authorized purposes of the CRSP.

The Navajo Reservoir Operations Draft Environmental Impact Statement was issued in September 2002 and the public review process was conducted from September 4 through December 4, 2002. Over 300 written comment letters were received. In addition, three public hearings were held to provide an opportunity for interested parties and agencies to present oral and written comments on the document and the proposed Navajo Reservoir operations. Comment letters, Reclamation responses, and public hearing statements are included in Volume III of the FEIS. The majority of comments received expressed concern with adverse impacts of the preferred alternative on resources such as the trout fishery, recreation, water quality, and hydropower. Other comments indicated that the preferred alternative was the only reasonable way to meet ESA obligations and protect water development. All written and oral comments received were carefully reviewed and considered in preparing the FEIS. Where appropriate, revisions were made to the document in response to specific comments. The comments and responses, together with the final environmental impact statement, will be considered in determining whether or not to implement the proposed action.

No decision will be made on the proposed Federal action until 30 days after release of the FEIS. After the 30-day waiting period, Reclamation will complete a Record of Decision. The Record of Decision will state the action that will be implemented and discuss all factors leading to that decision.

Dated: March 9, 2006.
Rick L. Gold,
Regional Director—UC Region, Bureau of Reclamation.

[FR Doc. E6-5844 Filed 4-19-06; 8:45 am]

BILLING CODE 4310-MN-P